DEPARTMENT OF AGRICULTURE

Food and Nutrition Service

Agency Information Collection Activities: Proposed Collection; Comment Request—WIC Participant and Program Characteristics Study 2020 and 2022

AGENCY: Food and Nutrition Service (FNS), United States Department of Agriculture (USDA).

ACTION: Notice and request for comments.

SUMMARY: In accordance with the Paperwork Reduction Act of 1995, the Food and Nutrition Service (FNS) invites the general public and other public agencies to comment on this proposed information collection for the WIC Participant and Program Characteristics study. This collection is an extension, without change, of a currently approved collection and the data collected from this study will be used to produce biennial reports on participant and program characteristics in WIC for 2020 and 2022.

DATES: Written comments on this notice must be received on or before May 21, 2019.

ADDRESSES: Comments may be sent to: Anna Potter Clifford, Policy Analyst, Office of Policy Support, Food and Nutrition Service, U.S. Department of Agriculture, 3101 Park Center Drive, Room 1014, Alexandria, VA 22302. Comments may also be submitted via fax to the attention of Anna Potter Clifford at 703-305-2719 or via email to anna.potter@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Anna Potter Clifford at 703-305-2719.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Title: WIC Participant and Program Characteristics Study 2020 and 2022.

Form Number: N/A.

OMB Number: 0584-0609.

Expiration Date: August 31, 2019.

Type of Request: Extension without change, of a currently approved collection.

The Special Supplemental Nutrition Program for Women, Infants, and Children (WIC) is administered by the U.S. Department of Agriculture's (USDA) Food and Nutrition Service (FNS). WIC benefits include nutritious supplemental foods; nutrition education; counseling, including breastfeeding promotion and support; and referrals to health care, social service, and other community providers for pregnant, breastfeeding, and postpartum women, infants, and children up to the age of 5 years. For pregnant women, WIC seeks to improve fetal development and reduce the incidence of low birth weight, short gestation, and anemia through intervention during the prenatal period. For infants and children, WIC seeks to provide nutritious foods during critical times of growth and development in an effort to prevent health problems and to improve the health status of these children.

WIC was established in 1972 by an amendment to the Child Nutrition Act of 1966. WIC is not an entitlement program. To receive WIC benefits, an individual must be categorically eligible: A pregnant, breastfeeding, or postpartum woman; an infant up to the age of 1 year; or a child age 1 through his or her fifth birthday. In addition, each applicant must be found to be income eligible and at nutritional risk. Eligible applicants receive supplemental food, usually in the form of vouchers, checks, or Electronic Benefits Transfer cards that allow them to obtain specific types of food (for example, milk, juice, and cereal) from participating retail vendors at no charge.

Since 1988, FNS has produced biennial reports on participant and program characteristics in WIC. This information is used for general program monitoring as well as for managing the information needs of the program. FNS uses this regularly updated WIC information to estimate budgets, submit civil rights reporting, identify research needs, and review current and proposed WIC policies and procedures. This study will be the 17th and 18th completed in the WIC Participant and Program Characteristics (PC) Study series.

Like all biennial WIC PC reports since 1992, the 2020 and the 2022 reports (PC2020 and PC2022) employ the prototype reporting system developed by FNS in consultation with the Centers for Disease Control and Prevention (CDC) and WIC State Agencies that uses participant information compiled from State WIC administrative records. The reports, including PC2020 and PC2022, contain information on a census of WIC participants in April of the reporting year, and provide information as summary statistics and maps.

The current system for reporting participant data is based on the automated transfer of an agreed-upon set of data elements. WIC State agencies download routinely collected information from their existing automated client and management information systems. State and local WIC staff use these data to certify applicant eligibility for WIC benefits and to issue food vouchers and checks. This set of 20 agreed-upon items is called the Minimum Data Set (MDS) and was developed by FNS working with the Information Committee of the National WIC Association (formerly the National Association of WIC Directors) and the CDC. This minimum data set will be used for this study. The MDS consists of 20 items, and the Supplemental Data Set (SDS) consists of 11 items. State agencies can provide supplemental data if they are available.

Affected Public: State, Local, or Tribal Government.

Type of Respondents: State WIC Officials.

Estimated Total Number of Respondents: 360.

Frequency of Response: 2.37.

Estimated Total Annual Responses: 852.

Estimated Time per Response: The average estimated time per response is 0.62 hours for all participants. The estimated time of response varies from 3 minutes (0.05 hours) for reminder emails to 60 minutes (1 hour) for running the reports.

Estimated Total Annual Burden on Respondents: The total estimated annual burden is 530 hours. See the table below for the estimated total annual burden for the State WIC officials.

Table 1—Estimated Total Annual Burden Hours
Respondent category | Type of respondent | Data collection activity | Estimated number of respondents | Frequency of response | Total annual responses | Average burden hours per response | Total annual burden estimate (hours)
State Agency Officials (2020) | Office and Administrative Support Staff | Guidance (and Cover Letter) | 90 | 1 | 90 | 0.25 | 22.50
| Office and Administrative Support Staff | Nutritional Risk Crosswalk | 40 | 1 | 40 | 0.5 | 20.00
| Office and Administrative Support Staff | Reminder Email | 30 | 1 | 30 | 0.05 | 1.5
| Office and Administrative Support Staff | Follow-Up Email | 90 | 1 | 90 | 0.5 | 45.00
| Subtotal for Office and Administrative Support Staff |  | 90 | 2.78 | 250 | 0.36 | 89.00
| State Database Administrator | MDS Reports | 90 | 1 | 90 | 1 | 90.00
| State Database Administrator | SDS Reports | 86 | 1 | 86 | 1 | 86.00
| Subtotal for State Database Administrator |  | 90 | 1.96 | 176 | 1.00 | 176.00
Total for PC2020 |  |  | 180 | 2.37 | 426 | 0.62 | 265.00
State Agency Officials (2022) | Office and Administrative Support Staff | Guidance (and Cover Letter) | 90 | 1 | 90 | 0.25 | 22.50
| Office and Administrative Support Staff | Nutritional Risk Crosswalk | 40 | 1 | 40 | 0.5 | 20.00
| Office and Administrative Support Staff | Reminder Email | 30 | 1 | 30 | 0.05 | 1.5
| Office and Administrative Support Staff | Follow-Up Email | 90 | 1 | 90 | 0.5 | 45.00
| Subtotal for Office and Administrative Support Staff |  | 90 | 2.78 | 250 | 0.36 | 89.00
| State Database Administrator | MDS Reports | 90 | 1 | 90 | 1 | 90.00
| State Database Administrator | SDS Reports | 86 | 1 | 86 | 1 | 86.00
| Subtotal for State Database Administrator |  | 90 | 1.96 | 176 | 1.00 | 176.00
Total for PC2022 |  |  | 180 | 2.37 | 426 | 0.62 | 265.00
Total for PC2020 and PC2022 |  |  | 360 | 2.37 | 852 | 0.62 | 530.00

Dated: March 11, 2019.
Brandon Lipps,
Administrator, Food and Nutrition Service.

[FR Doc. 2019-05525 Filed 3-21-19; 8:45 am]

BILLING CODE 3410-30-P